DEPARTMENT OF AGRICULTURE

Forest Service

Ochoco National Forest, Lookout Mountain Ranger District; Oregon; Ochoco Summit Trail System Project Supplemental EIS

AGENCY: Forest Service, USDA.

ACTION: Notice of intent to prepare a supplemental environmental impact statement.

SUMMARY: The Ochoco National Forest is preparing a supplemental environmental impact statement (EIS) to analyze the effects of changing the existing motorized trail system to create and designate a sustainable system of roads, trails and areas open to motor vehicles that will provide legal public access, enhance regulation of unmanaged wheeled motor vehicle travel, protect resources, and decrease conflicts between motorized and non-motorized use on the Ochoco National Forest. Consistent with the Ochoco National Forest Land and Resource Management Plan, as amended, this action is needed to provide to the public a diversity of road and trail opportunities for experiencing a variety of environments and modes of travel. The original notice of intent to prepare an environmental impact statement was published in the Federal Register on November 20, 2009 (74 FR 60235-60236). The supplemental environmental impact statement is being prepared because a 2014 wildfire in the project area changed the conditions initially analyzed so that additional analysis was required, and because the responsible official desired to have additional discussions with stakeholders prior to making a decision. The Ochoco Summit Trail System decision and the reasons for the decision will be documented in the record of decision. That decision will be subject to the Forest Service Project-level Predecisional Administrative Review Process (36 CFR part 218).

DATES: The supplemental draft environmental impact statement is expected to be completed and available for public comment in February 2016. The final environmental impact statement is expected to be completed in the fall of 2016.

ADDRESSES: Ochoco Summit Trail System Planning Team, Ochoco National Forest, 3160 NE Third Street, Prineville, Oregon 97754.

FOR FURTHER INFORMATION CONTACT: Marcy Anderson, Project Leader, at 3160 NE Third Street, Prineville, Oregon 97754, or at (541) 416-6463, or by email at marcelleanderson@fs.fed.us.

Dated: February 10, 2016.
Stacey L. Forson,
Forest Supervisor.

[FR Doc. 2016-03174 Filed 2-16-16; 8:45 am]

BILLING CODE 3410-11-P